DEPARTMENT OF THE INTERIOR

Bureau of Land Management

[UT-924-04-1320-00]

Notice of Coal Lease Offering By Sealed Bid, Summit Creek Tract Coal Lease Application UTU-79975

AGENCY: Bureau of Land Management, Interior.

ACTION: Notice.

SUMMARY: Notice is hereby given that at 1 p.m., June 24, 2004, certain coal resources in lands hereinafter described in Carbon County, Utah will be offered for competitive lease by sealed bid of $100.00 per acre or more to the qualified bidder submitting the highest bonus bid in accordance with the provisions of the Mineral Leasing Act of 1920, as amended (41 Stat. 437). A company or individual is limited to one sealed bid. If a company or individual submits two or more sealed bids for this tract all of the company's or individual's bids will be rejected.

Rental and Royalty: A lease issued as a result of this offering will provide for payment of an annual rental of $3 per acre or fraction thereof and a royalty payable to the United States of 12.5 percent of the value of coal mined by surface methods, and 8 percent of the value of coal mined by underground methods. The value of coal shall be determined in accordance with BLM Manual 3070.

SUPPLEMENTARY INFORMATION: This lease is being offered for sale under the provisions set forth in the regulations for Leasing on Application at 43 CFR part 3425.

The lease sale will be held in the Bureau of Land Management (BLM) Third Floor Conference Room, 324 South State Street, Salt Lake City, Utah, at 1 p.m. on June 24, 2004. At that time, the sealed bids will be opened and read. Any bid received after 10 a.m., June 24, 2004, will not be considered.

No decision will be made during the lease sale to accept or reject any bid. The BLM reserves the right to reject any and all bids regardless of the amount offered. Any bid that is less than fair market value, as determined by the authorized officer, will not be accepted. The successful bidder for the tract will be notified after the BLM has completed analysis of all the bids received consistent with regulations at 43 CFR 3422.3-2(b).

Coal Offered: The coal resources to be offered consist of all recoverable reserves available in the following described lands located in Carbon County, Utah approximately eight miles northeast of Helper, Utah on private lands with federally administered minerals:

T. 12 S., R. 11 E., SLM, Carbon County, Utah

Sec. 29, SWSW, SWSE;

Sec. 30, Lots 4, 12, 14-16;

Sec. 31, Lots 1, 2, 7-11;

Sec. 32, W2NE, E2NW, NWNW, NESW.

Containing 702.73 acres.

The Summit Creek coal tract has one potentially minable coal bed, the Aberdeen bed. The minable portions of the coal bed in this area are around six feet in thickness. The tract contains more than 3.04 million tons of recoverable high-volatile B bituminous coal.

The estimated coal quality in the seam on an “as received basis” is as follows:

12,756—Btu/lb.,

5.95—Percent moisture,

4.63—Percent ash,

44.73—Percent volatile matter,

44.69—Percent fixed carbon,

0.44—Percent sulfur.

Bidding instructions are included in the Detailed Statement of the Lease Sale. A copy of the detailed statement and the proposed coal lease are available by mail at the BLM, Utah State Office, P.O. Box 45155, Salt Lake City, Utah 84145-0155 or in the BLM Public Room (Room 400), 324 South State Street, Salt Lake City, Utah 84111. All case file documents and written comments submitted by the public on Fair Market Value or royalty rates except those portions identified as proprietary by the commentator and meeting exemptions stated in the Freedom of Information Act, are available for public inspection in the Public Room (Room 400) of the Bureau of Land Management.

Authority: 43 CFR part 342.

Dated: June 2, 2004.
Joe Incardine,
Acting Deputy State Director, Lands and Minerals.

[FR Doc. 04-14211 Filed 6-22-04; 8:45 am]

BILLING CODE 4310-$$-P